DEPARTMENT OF DEFENSE

Office of the Secretary

Advisory Panel on Department of Defense Capabilities for Support of Civil Authorities After Certain Incidents

AGENCY: Office of the Assistant Secretary of Defense (Homeland Defense and America's Security Affairs), DoD.

ACTION: Notice of multiple meetings by audio teleconference.

SUMMARY: Under the provisions of the Federal Advisory Committee Act of 1972 (5 U.S.C., Appendix, as amended), the Government in the Sunshine Act of 1976 (5 U.S.C. 552b, as amended), and 41 CFR 102-3.150, the Department of Defense announces that the Advisory Panel on Department of Defense Capabilities for Support of Civil Authorities after Certain Incidents (hereinafter referred to as the Advisory Panel) will take place by audio teleconference on July 7, 8, 9, and 12, 2010.

DATES: The meetings will be held:

Wednesday, July 7, 2010, from 11:00 a.m. to 5:30 p.m., Eastern Daylight Time (hereinafter referred to as EDT).

Thursday, July 8, 2010, from 11:00 a.m. to 5:30 p.m., EDT.

Friday, July 9, 2010, from 11:00 a.m. to 5:30 p.m., EDT.

Monday, July 12, 2010, from 11:00 a.m. to 5:30 p.m., EDT.

ADDRESSES: The meetings will be held at the RAND Corporation, 1200 South Hayes Street, Arlington, Virginia 22202, 4th floor conference facilities.

FOR FURTHER INFORMATION CONTACT:

Advisory Panel's Designated Federal Officer

Catherine Polmateer, telephone: 703-697-6370, OASD(HD&ASA), Resources Integration, 2600 Defense Pentagon, Washington, DC 20301-2600, e-mail: Catherine.Polmateer@osd.mil.

Advisory Panel's Points of Contact at the Federally Funded Research and Development Center (FFRDC)

Andrew Morral, Principal Investigator, telephone 703-413-1100, x5119, e-mail: morral@rand.org; The RAND Corporation, 1200 South Hayes Street, Arlington, VA 22202.

SUPPLEMENTARY INFORMATION: Due to internal DoD difficulties, beyond the control of the Advisory Panel on Department of Defense Capabilities for Support of Civil Authorities After Certain Incidents or its Designated Federal Officer, the Government was unable to process the Federal Register notice for the July 7, 8, and 9, 2010 meetings of the Advisory Panel on Department of Defense Capabilities for Support of Civil Authorities After Certain Incidents as required by 41 CFR 102-3.150(a). Accordingly, the Advisory Committee Management Officer for the Department of Defense, pursuant to 41 CFR 102-3.150(b), waives the 15-calendar day notification requirement.

Purpose of the Meetings

The panel will discuss, via audio teleconference, preliminary findings, conclusions, and recommendations, based on its activities to date, based on its congressionally-mandated tasks.

Agenda

The only agenda item will be as stated in the Purpose section above.

Public's Accessibility to the Meeting

Pursuant to 5 U.S.C. 552b and 41 CFR 102-3.140 through 102-3.165, and the availability of space, this meeting is open to the public. Seating is on a first-come basis. Persons attending will be permitted to listen to the audio discussion of the panel members. (Note: Members of the public who choose to attend the meeting should allow approximately 15 minutes to clear building security on the ground floor (Hayes Street entrance) and RAND security (4th floor reception area)).

Written Statements

Pursuant to 41 CFR 102-3.105(j) and 102-3.140, and section 10(a)(3) of the Federal Advisory Committee Act of 1972 (FACA), the public or interested organizations may submit written statements to the Advisory Panel about its mission and functions. Written statements may be submitted at any time or in response to the stated agenda of a planned meeting of the Advisory Panel.

All written statements shall be submitted to the Designated Federal Officer for the Advisory Panel, and this individual will ensure that the written statements are provided to the membership for their consideration. Contact information for the Designated Federal Officer is provided in this notice (see FOR FURTHER INFORMATION CONTACT) or can be obtained from the GSA's FACA Database: https://www.fido.gov/facadatabase/public.asp.

Written statements being submitted in response to the agenda mentioned in this notice must be received by the Designated Federal Officer at the address listed under FOR FURTHER INFORMATION CONTACT no later than 11 a.m., EDT, seven calendar days prior to the date of each meeting (see DATES). Written statements received after these dates may not be provided to or considered by the Advisory Panel until its next meeting.

The Designated Federal Officer will review all timely submissions with the Advisory Panel Chairperson and ensure they are provided to all members of the Advisory Panel before the meeting that is the subject of this notice.

All written statements received by the Designated Federal Officer will be retained as part of the committee's official records. In addition, statements timely submitted in response to a stated agenda of a planned meeting and provided to committee members in preparation for a meeting, will be made available to the public during the meeting and posted to the GSA's FACA Database.

Oral Statements

In addition to written statements, and time permitting, the Chairperson of the Advisory Panel may allow Oral Statements by the public to the Members of the Advisory Panel. Any person seeking to address orally the Advisory Panel must submit a request to the Designated Federal Officer, no later than seven calendar days prior to the date of each meeting (see DATES). Oral statements will be limited to five minutes (or less depending on time available).

The Designated Federal Officer will provide timekeeping for oral statements and will notify the Chairperson when a presenter has reached allotted time.

Dated: June 22, 2010.
Mitchell S. Bryman,
Alternate OSD Federal Register Liaison Officer, Department of Defense.

[FR Doc. 2010-15460 Filed 6-24-10; 8:45 am]

BILLING CODE 5001-06-P